DEPARTMENT OF COMMERCE

National Oceanic and Atmospheric Administration

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) and its Visioning and Strategic Planning Working Group will hold public meetings.

DATES: The meetings will be held Monday, December 10, 2012 through Thursday, December 13, 2012. See SUPPLEMENTARY INFORMATION for specific dates and times.

ADDRESSES: The meetings will be held at Pier V, 711 Eastern Avenue, Baltimore, MD 21202; telephone: (410) 539-2000.

Council Address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION: On Monday, December 10—The Visioning and Strategic Planning Working Group will meet from 9 a.m. until 5 p.m. On Tuesday, December 11—The Visioning and Strategic Planning Working Group will meet from 9 a.m. until 5 p.m. On Wednesday, December 12—The Executive Committee will meet from 8 a.m. to 9 a.m. The Council will convene at 9 a.m. From 9 a.m. until 11:30 a.m., the Council will hold its regular Business Session to approve the October 2012 minutes and receive liaison, organizational, Executive Director, Science, and Committee Reports. From 11:30 a.m. until 12 p.m., the proposed rule on Amendment 5 to the Highly Migratory Species (HMS) Fishery Management Plan (FMP) regarding shark rebuilding and management measures will be presented. From 1 p.m. until 2:30 p.m., Mackerel, Squid, Butterfish, River Herring, and Shad will be discussed. From 2:30 p.m. until 3:30 p.m., Special Management Zone (SMZ) Alternatives will be discussed. From 3:30 p.m. until 5 p.m.,. Black Sea Bass issues will be discussed. There will be a Public Listening Session from 5 p.m. until 6 p.m. on Wednesday evening with discussion of impacts from Hurricane Sandy. On Thursday December 13—The Demersal Committee will meet as a Committee of the Whole with the Atlantic States Marine Fisheries Commission's (ASMFC) Summer Flounder, Scup, and Black Sea Board. From 9 a.m. until 10:30 a.m., summer flounder 2013 recreational management measures will be finalized with the Board. From 10:30 a.m. until 12 p.m., scup 2013 recreational management measures with the Board will be finalized. From 1 p.m. until 4 p.m., the black sea bass 2013 recreational management measures with the Board will be finalized. From 4 p.m. until 5 p.m., the Council will conduct any continuing and/or new business.

Agenda items by day for the Council's Committees and the Council itself are: On Monday, December 10—The Visioning and Strategic Planning Working Group will discuss the next steps for completing the draft strategic plan, finalize Science and Data and Ecosystems goal sequences, review top themes from the Visioning Project, and discuss objectives, strategies, and tactics for one strategic goal sequence. On Tuesday, December 11—The Visioning and Strategic Planning Working Group will review the outcomes from Monday and discuss objectives, strategies, and tactics for up to three strategic goals. On Wednesday, December 12—The Executive Committee will meet to identify the 2013 Council priorities and discuss the nominations for the Ricks E. Savage Award. The Council will hold its regular Business Session to approve the October minutes, and receive liaison, organizational, Executive Director, Science, and Committee Reports. The Council will receive a presentation from NMFS regarding Amendment 5 to the HMS FMP. The Council will hold its second meeting of Framework 8 to Mackerel, Squid, and Butterfish (MSB). MSB Amendment 15 scoping results will be presented and confirmation on scope of Amendment for the Fishery Management Action Team (FMAT) will be discussed along with an update on the January 15-17, 2013 Squid Management Workshop. The Council will discuss SMZ Alternatives. The Council will discuss Black Sea Bass issues with regard to the 2012 overages and review accountability measures and black sea bass data. The Council will hold a public listening session to discuss fishery impacts from Hurricane Sandy. On Thursday, December 13—the Council in conjunction with the ASMFC's Summer Flounder, Scup, and Black Sea Bass Boards will review and discuss the associated Monitoring Committee's and Advisory Panel's recommendations and develop and approve 2013 recreational management measures for summer flounder, scup, and black sea bass. The Council will also discuss an update on Amendment 17 to the Summer Flounder, Scup, and Black Sea Bass FMP. The ASMFC Board will discuss an Addendum to enable State-by-State Black Sea Bass Recreational Management Measures. The Council will conduct any continuing and/or new business.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: November 19, 2012.
Tracey L. Thompson,
Acting Deputy Director, Office of Sustainable Fisheries, National Marine Fisheries Service.

[FR Doc. 2012-28438 Filed 11-21-12; 8:45 am]

BILLING CODE 3510-22-P